DEPARTMENT OF THE INTERIOR

Bureau of Land Management

[14X 1109AF LLUT030000-L17110000-PH0000-24-1A]

Cancellation of Grand Staircase-Escalante National Monument Advisory Committee Meeting

AGENCY: Bureau of Land Management, Interior.

ACTION: Notice of Cancellation of Meeting.

SUMMARY: The May 21-22, 2014, Grand Staircase-Escalante National Monument Advisory Committee meeting is cancelled because a quorum cannot be met. If you have any questions, please contact Larry Crutchfield, Public Affairs Officer, Grand Staircase-Escalante National Monument, Bureau of Land Management, 669 South Highway 89A, Kanab, Utah 84741; phone (435) 644-1209; or lcrutchf@blm.gov.

Authority: 43 CFR 1784.4-1.

Jenna Whitlock,
Associate State Director.

[FR Doc. 2014-12471 Filed 5-28-14; 8:45 am]

BILLING CODE 4310-DQ-P